DEPARTMENT OF COMMERCE

National Oceanic and Atmospheric Administration

[RTID 0648-XE491]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 154th Scientific and Statistical Committee (SSC), Executive and Budget Standing Committee (SC) and its 201st Council meeting to take actions on fishery management issues in the Western Pacific Region.

DATES: The meetings will be held between December 12 and December 17, 2024. For specific times and agendas, see SUPPLEMENTARY INFORMATION.

ADDRESSES: The 154th SSC meeting will be held as a hybrid meeting for members and the public, with a remote participation option available via Webex. In-person attendance for the 154th SSC meeting will be hosted at the Council office, 1164 Bishop Street, Suite 1400, Honolulu, HI 96813.

The Executive and Budget SC and the 201st Council meetings will be held by web conference via WebEx. Specific information on joining the meeting, connecting to the web conference and providing oral public comments will be posted on the Council website at www.wpcouncil.org. For assistance with the web conference connection, contact the Council office at (808) 522-8220.

The following venues will be the host sites for the 201st Council meeting web conference: Council Conference Room, 1164 Bishop Street, Suite 1400, Honolulu, HI; Cliff Pointe, 304 W O'Brien Drive, Hagatna, Guam; BRI Building Suite 205, Kopa Di Oru St., Garapan, Saipan, Commonwealth of the Northern Mariana Islands (CNMI); and, Tedi of Samoa Building Suite 208B, Fagatogo Village, American Samoa.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The 154th SSC meeting will be held between 8:30 a.m. and 5:30 p.m., HST on December 12, and 8 a.m. and 2 p.m., HST on December 13, 2024. The Executive and Budget SC meeting will be held between 3 p.m. and 5:30 p.m., HST on December 13, 2024. The 201st Council Meeting will be held between 11 a.m. and 5 p.m., HST on December 16-17, 2024. Public Comment on Non-Agenda Items will be held between 4:30 p.m. and 5 p.m., HST on December 16, 2024.

Agenda items noted as “Final Action” refer to actions that may result in Council transmittal of a proposed fishery management plan, proposed plan amendment, or proposed regulations to the U.S. Secretary of Commerce, under Sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 201st Council meeting will be available at www.wpcouncil.org. Written public comments on final action items at the 201st Council meeting should be received at the Council office by 5 p.m. HST, Thursday, December 12, 2024, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting. As public comments will be made publicly available, participants and public commenters are urged not to provide personally identifiable information (PII) at this meeting. Participation in the meeting by web conference, or by telephone, constitutes consent to the audio recording.

Agenda for the 154th SSC Meeting

Thursday, December 12, 2024, 8:30 a.m. to 5:30 p.m., HST

1. Introductions

2. Approval of Draft Agenda and Assignment of Rapporteurs

3. Status of the 153rd SSC Meeting Recommendations

4. Pacific Islands Fisheries Science Center Director Report

5. Program Planning and Research

A. SSC Strategic Planning

B. Science Needs To Inform Management Priorities

C. SSC Special Projects Discussion

D. Inflation Reduction Act Project Updates

E. American Samoa (AS) Bottomfish Management Unit Species (BMUS) Revisions—Annual Biological Catch (ABC) Control Rule Tier 6 (Action Item)

F. Public Comment

G. SSC Discussion and Recommendations

6. Protected Species/Pelagic & International Fisheries

A. False Killer Whale Foreign Fleet Impacts Analysis

B. Development of an Electronic Monitoring Program for Western Pacific Fisheries (Action Item)

C. Public Comment

D. SSC Discussion and Recommendations

7. Island Fisheries

A. Non-Commercial Fisheries Data

A.1. Marine Recreational Information Program (MRIP) Pacific Islands Regional Implementation Plan

A.2. Non-Commercial Bottomfish Vessel Registry Data Exploration

Friday, December 13, 2024, 8 a.m. to 2 p.m., HST

7. Island Fisheries (Continued)

B. Main Hawaiian Islands (MHI) Uku

B.1. MHI Uku Update Stock Assessment

B.2. Chair's Report on Uku Update Stock Assessment Western Pacific Stock Assessment Review (WPSAR)

C. Public Comment

D. SSC Discussion and Recommendations

8. Other Business

A. SSC Meeting Schedule and Potential Working Groups

B. Synthesis of SSC Strategic Plan and Interim Work

9. Summary of SSC Recommendations to the Council

Agenda for the Executive and Budget SC Meeting

Friday, December 13, 2024, 3 p.m. to 5:30 p.m., HST

1. Introductions and Approval of Agenda

2. Financial Reports

3. Administrative Reports

4. Report on Inflation Reduction Act (IRA) Program

5. Council Coordination Committee Report

6. Council Family Changes

7. SSC Program Review

A. Term Limits

8. Exemptions From Jones Act and Cabotage Laws

9. Meetings and Workshops

10. Other Business

A. Misinformation on Mercury Toxicity in Tuna

11. Public Comment

12. Discussion and Recommendations

Agenda for the 201st Council Meeting

Monday, December 16, 2024, 11 a.m. to 5 p.m., HST

1. Welcome and Introductions

2. Approval of the 201st Council Meeting (CM) Agenda

3. Approval of the 200th CM Meeting Minutes

4. Executive Director's Report

5. Agency Reports

A. NMFS

A.1. Pacific Islands Regional Office

A.2. PIFSC

B. NOAA Office of General Counsel Pacific Islands Section

C. US Coast Guard (USCG)

D. Enforcement

D.1 NOAA Office of Law Enforcement

D.2 NOAA Office of General Counsel Enforcement Section

E. U.S. State Department

F. U.S. Fish and Wildlife Service (FWS)

G. Public Comment

H. Council Discussion and Action

6. Council Member Island Reports

A. American Samoa

B. Commonwealth of the Northern Mariana Islands (CNMI)

C. Guam

D. Hawaii

E. Public Comments

F. Council Discussion and Action

7. Action Items

A. MHI Uku Fisheries

A.1. 2024 MHI Uku WPSAR Report

A.2. 2024 MHI Uku Stock Assessment Update

B. Modifying the Guam Bottomfish Rebuilding Plan (Final Action)

C. U.S. Catch Limits for North Pacific Striped Marlin (Initial Action)

D. Hawaii and American Samoa Longline Fisheries Crew Training Requirement (Initial Action)

E. Development of an Electronic Monitoring Program for Western Pacific Fisheries (Initial Action)

F. Update on AS BMUS Revision—Tier 6 ABC Control Rule (Initial Action)

G. Revision of Guam Marine Conservation Plan

H. Advisory Group Reports and Recommendations

H.1. Advisory Panel (AP)

H.2. Fishing Industry Advisory Committee (FIAC)

H.3. Non-Commercial Fisheries Advisory Committee (NCFAC)

H.4. Plan Team (PT)

H.5. SSC

I. Public Comment

J. Council Discussion and Action

Monday, December 16, 2024, 4:30 p.m. to 5 p.m., HST

Public Comment on Non-Agenda Items

Tuesday, December 17, 2024, 11 a.m. to 5 p.m., HST

8. Protected Species

A. False Killer Whale Foreign Fleet Impact Analysis

B. Coral Critical Habitat Designation Final Rule

C. Advisory Group Reports and Recommendations

C.1. AP

C.2. FIAC

C.3. PT

C.4. SSC

D. Public Comment

E. Council Discussion and Action

9. Pelagic and International Fisheries

A. International Fisheries

A.1. Western and Central Pacific Fisheries Commission (WCPFC) Technical and Compliance Committee (TCC) Outcomes

A.2. US Positions at WCPFC 21 From Permanent Advisory Committee (PAC) Meeting

A.3. Outcomes of the WCPFC 21st Regular Session 2024

B. Advisory Group Report and Recommendations

B.1. AP

B.2. FIAC

B.3. PT

B.4. SSC

C. Public Comment

D. Council Discussion and Action

10. Administrative Matters

A. Council Member and Staff Ethics Training

B. Financial Reports

C. Administrative Reports

D. Report on IRA Program

E. Council Coordination Committee Report

F. Council Family Changes

G. SSC Program Review

H. Meetings and Workshops

I. Council Cultural Protocol Documents

J. Executive and Budget SC Report

K. Public Comment

L. Discussion and Action

11. Election of Officers

12. Other Business

Non-emergency issues not contained in this agenda may come before the Council for discussion during its 201st meeting. However, Council final decisions will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 21, 2024.
Rey Israel Marquez,
Acting Deputy Director, Office of Sustainable Fisheries, National Marine Fisheries Service.

[FR Doc. 2024-27692 Filed 11-25-24; 8:45 am]

BILLING CODE 3510-22-P